DEPARTMENT OF LABOR

Office of the Secretary

Submission of OMB Review; Comment Request

December 19, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting the Department of Labor. To obtain documentation, contact Ira Mills on 202-693-4122 (this is not a toll-free number) or e-mail: mills.ira@dol.gov.

Comments should be sent to Office of Information and Regulatory Affairs, Attn: OMB Desk Officer for the Occupational Safety and Health Administration (OSHA), Office of Management and Budget, Room 10235, Washington, DC 20503 (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of a currently approved collection.

Title: OSHA Data Initiative (ODI).

OMB Number: 1218-0209.

Affected Public: Business or other for-profit; Farms; and State, Local, or Tribal Government.

Type of Response: Reporting.

Frequency: Annually.

Number of Respondents: 96,675.

Number of Annual Responses: 96,675.

Estimated Time Per Response: 10 minutes.

Total Burden Hours: 15,479.

Total Annualized Capital/Startup Costs: $0.

Total Annual Costs (operating/maintaining systems or purchasing services): $0.

Description: In accordance with 29 CFR 1904.41, OSHA is proposing to continue collecting occupational injury and illness data. These data allow OSHA to calculate occupational injury and illness rates and to focus its efforts on individual workplaces with ongoing series safety and health problems. This data collection initiative is critical to OSHA's outreach and enforcement efforts and the data requirements tied to the Government Performance and Results Act.

Ira L. Mills,
Departmental Clearance Officer.

[FR Doc. 04-153 Filed 1-5-04; 8:45 am]

BILLING CODE 4510-26-M